DEPARTMENT OF STATE

[Delegation of Authority 284-1]

Delegation of Authority to the Under Secretary for Political Affairs

By virtue of the authority vested in me as Secretary of State by the laws of the United States, including 22 U.S.C. 2651a, I hereby delegate to the Under Secretary for Political Affairs, to the extent authorized by law, all authorities and functions vested in the Secretary of State or the head of agency by any act, order, determination, delegation of authority, regulation, or executive order, now or hereafter issued. This delegation includes all authorities and functions that have been or may be delegated or redelegated to other Department officials but does not repeal delegations to such officials.

This delegation shall apply only when the Secretary, the Deputy Secretary, and the Deputy Secretary for Management and Resources are absent or otherwise unavailable or when the Secretary or either Deputy Secretary requests that the Under Secretary exercise such authorities and functions.

Notwithstanding this delegation of authority, the Secretary of State, the Deputy Secretary of State and the Deputy Secretary of State for Management and Resources may exercise any function or authority delegated by this delegation.

This Delegation of Authority supersedes Delegation of Authority 284, dated August 26, 2005.

This memorandum shall be published in the Federal Register.

Dated: February 13, 2009.
Hillary Rodham Clinton,
Secretary of State, Department of State.

[FR Doc. E9-4143 Filed 2-25-09; 8:45 am]

BILLING CODE 4710-10-P